ENVIRONMENTAL PROTECTION AGENCY

[EPA-HQ-OPP-2009-0192; FRL-8802-2]

Issuance of an Experimental Use Permit

AGENCY: Environmental Protection Agency (EPA).

ACTION: Notice.

SUMMARY: EPA has issued an experimental use permit (EUP) to the U.S. Department of Agriculture, Animal and Plant Health Inspection Service (USDA, APHIS) for the use of Gonacon Immunocontraceptive Vaccine on feral horses in Theodore Roosevelt National Park in North Dakota. An EUP permits use of a pesticide for experimental or research purposes only in accordance with the limitations in the permit.

FOR FURTHER INFORMATION CONTACT: Autumn Metzger, Registration Division (7505P), Office of Pesticide Programs, Environmental Protection Agency, 1200 Pennsylvania Ave., NW., Washington, DC 20460-0001; telephone number: (703) 305-5314; e-mail address: metzger.autumn@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

EPA has established a docket for this action under docket identification (ID) number EPA-HQ-OPP-2009-0192. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Description of EUP

Registrant: U.S. Department of Agriculture, Animal and Plant Health Inspection Service (USDA, APHIS) applied for an EUP for the use of Gonacon Immunocontraceptive Vaccine on feral horses on July 13, 2009.

56228-EUP-40. Registrant: USDA, APHIS, Environmental Services Unit 149, 4700 River Road, Riverdale, MD 20737. This EUP allows the use of 1.6 ml of the active ingredient Mammalian Gonadotropin Releasing Hormone (GnRH) delivered in the end use product GonaCon Immunocontraceptive Vaccine on 47,000 acres of Federally owned park land in Theodore Roosevelt National Park in North Dakota to evaluate the contraceptive efficacy on feral horses (Equus cabalus).

III. Regulatory Conclusions

EPA issued the EUP as described in Unit II on October 13, 2009. The program is authorized only in the State of North Dakota. The EUP is effective from October 13, 2009 to October 13, 2014.

IV. Missing Data

There was no missing data.

V. Response to Comments

There were no comments.

Authority: 7 U.S.C. 136c.

List of Subjects

Environmental protection, Experimental use permits.

Dated: December 7, 2009.
Lois Rossi,
Director, Registration Division, Office of Pesticide Programs.

[FR Doc. E9-30125 Filed 12-17-09; 8:45 am]

BILLING CODE 6560-50-S